DEPARTMENT OF HOMELAND SECURITY

Coast Guard

33 CFR Part 100

[Docket No. USCG-2023-0682]

Special Local Regulation; Olympia Harbor Days Tug Boat Races, Budd Inlet, WA

AGENCY: Coast Guard, Department of Homeland Security (DHS).

ACTION: Notification of enforcement of regulation.

SUMMARY: The Coast Guard will enforce special local regulations for the Olympia Harbor Days Tug Boat Races, Budd Inlet, WA, from 11 a.m. until 4 p.m. on September 2, 2023. This action is necessary to prevent injury and to protect life and property of the maritime public from the hazards associated with the tug boat races. During the enforcement periods, the operator of any vessel in the regulated area must comply with directions from the Patrol Commander or any Official Patrol displaying a Coast Guard ensign.

DATES: The regulations in 33 CFR 100.1309 will be enforced from 11 a.m. until 4 p.m. on September 2, 2023.

FOR FURTHER INFORMATION CONTACT: If you have questions about this notification of enforcement, call or email Lieutenant Peter McAndrew, Sector Puget Sound Waterways Management Division, U.S. Coast Guard; telephone 206-217-6045, email SectorPugetSoundWWM@uscg.mil.

SUPPLEMENTARY INFORMATION: The Coast Guard will enforce special local regulations in 33 CFR 100.1309 for the Olympia Harbor Days Tug Boat Races, Budd Inlet, WA, regulated area from 11 a.m. until 4 p.m. on September 2, 2023. This action is being taken to provide for the safety of life on navigable waterways during this event. District Thirteen regulation 33 CFR 100.1309(a) specifies the location of the regulated area which encompasses approximately 2 nautical miles of the navigable waters in Budd Inlet. During the enforcement periods, if you are the operator of a vessel in the regulated area you must comply with directions from the Patrol Commander or any Official Patrol displaying a Coast Guard ensign. All persons or vessels who desire to enter the race area while it is enforced must obtain permission from the on-scene patrol craft on VHF-FM channel 16.

In addition to this notification of enforcement in the Federal Register, the Coast Guard will provide notification of this enforcement period via the Local Notice to Mariners. If the Captain of the Port determines that the regulated area need not be enforced for the full duration stated in this notification, he may use a Broadcast Notice to Mariners to grant general permission to enter the regulated area.

Dated: August 21, 2023.
Y Moon,
Captain, U.S. Coast Guard, Acting Captain of the Port, Sector Puget Sound.

[FR Doc. 2023-18327 Filed 8-24-23; 8:45 am]

BILLING CODE 9110-04-P